DEPARTMENT OF THE INTERIOR

Fish and Wildlife Service

Receipt of Two Applications for Incidental Take Permits for Two Beachfront Developments in Escambia County, FL

AGENCY: Fish and Wildlife Service, Interior.

ACTION: Notice.

SUMMARY: Acropolis II Development Enterprises, L.L.C. (Applicants) request incidental take permits (ITP) pursuant to section 10(a)(1)(B) of the Endangered Species Act of 1973 (Act), as amended. The Applicants anticipate taking Perdido Key beach mice (Peromyscus polionotus trissyllepsis) incidental to developing, constructing, and human occupancy of a two-condominium beachfront complex on Perdido Key in Escambia County, Florida (Projects). The Applicants' Habitat Conservation Plan (HCP) describes the mitigation and minimization measures proposed to address the effects of both Projects to the Perdido Key beach mouse.

DATES: Written comments on the ITP application, EA, and HCP should be sent to the Service's Regional Office (see ADDRESSES) and should be received on or before June 23, 2006.

ADDRESSES: Persons wishing to review the application, EA, and HCP may obtain a copy by writing the Service's Southeast Regional Office, Atlanta, Georgia. Please reference permit number TE122397-0 and TE122398-0 in such requests. Documents will also be available for public inspection by appointment during normal business hours at the Regional Office, 1875 Century Boulevard, Suite 200, Atlanta, GA 30345 (Attn: Endangered Species Permits); or Field Supervisor, U.S. Fish and Wildlife Service, 1601 Balboa Avenue, Panama City, FL 32405.

FOR FURTHER INFORMATION CONTACT: Mr. Aaron Valenta, Regional HCP Coordinator, at the Atlanta address in ADDRESSES, telephone 404/679-4144, or facsimile: 404/679-7081; or Sandra Sneckenberger, Field Office Project Manager, at the Panama City address in ADDRESSES, or at 850/769-0552, ext. 239.

SUPPLEMENTARY INFORMATION: We announce applications for ITPs and the availability of the HCP and EA. The EA is an assessment of the likely environmental impacts associated with these Projects. Copies of these documents may be obtained by making a request, in writing, to the Regional Office (see ADDRESSES). This notice is provided pursuant to section 10 of the Act (16 U.S.C. 1531 et seq.) and National Environmental Policy Act regulations at 40 CFR 1506.6.

We specifically request information, views, and opinions from the public via this notice on the Federal action, including the identification of any other aspects of the human environment not already identified in the EA. Further, we specifically solicit information regarding the adequacy of the HCP as measures against our ITP issuance criteria found in 50 CFR parts 13 and 17.

If you wish to comment, you may submit comments by any one of several methods. Please reference permit number TE122397-0 and TE122398-0 in such comments. You may mail comments to the Service's Regional Office (see ADDRESSES). You may also comment via the Internet to aaron_valenta@fws.gov. Please also include your name and return address in your Internet message. If you do not receive a confirmation from us that we have received your Internet message, contact us directly at either telephone number listed below (see FOR FURTHER INFORMATION CONTACT).

Finally, you may hand-deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The area encompassed under the incidental take permits includes two individual parcels, Palazzo I and II, consisting of a total of 2.6 acres, along the beachfront of the Gulf of Mexico. The projects are located on the western portion of Perdido Key, a 16.9-mile barrier island. Perdido Key constitutes the entire historic range of the Perdido Key beach mouse.

The Perdido Key beach mouse was listed as an endangered species under the Act in 1985 (June 6, 1985, 50 FR 23872). The mouse is also listed as an endangered species by the State of Florida. Critical habitat was designated for the Perdido Key beach mouse at the time of listing (50 FR 23872). On December 15, 2005, we published a proposed revision of critical habitat for the Perdido Key beach mouse and Choctawhatchee beach mouse, and a proposed critical habitat designation for the St. Andrew beach mouse (70 FR 74426).

The Perdido Key beach mouse is one of eight species of the old-field mouse that occupy coastal rather than inland areas and are referred to as beach mice. It is one of five subspecies of beach mice endemic to the Gulf coast of Alabama and northwestern Florida. Two other extant subspecies of beach mouse and one extinct subspecies are known from the Atlantic coast of Florida. As do other beach mouse subspecies, Perdido Key beach mice spend their entire lives within the coastal beach and dune ecosystem.

Beach mouse habitat consists of a mix of interconnected habitats, including primary, secondary, and scrub dunes, including interdunal areas. Beach mice are nocturnal and dig burrows within the dune system where vegetation provides cover. They forage for food throughout the dune system, feeding primarily on seeds and fruits of dune plants including bluestem (Schizachyrium maritimum), sea oats (Uniola paniculata), and evening primrose (Oenothera humifusa). Insects are also an important component of their diet.

Beach mice along the Gulf Coasts of Florida and Alabama generally live about nine months and become mature between 25 and 35 days. Beach mice are monogamous, pairing for life. Gestation averages 24 days and the average litter size is three to four pups. Peak breeding season for beach mice is in autumn and winter, declining in spring, and falling to low levels in summer. In essence, mature female beach mice can produce a litter every month and live about eight months.

The EA considers the environmental consequences of two alternatives and the proposed action. The proposed action alternative is issuance of the incidental take permit and implementation of the HCP as submitted by the Applicants. The HCP provides for: (1) Minimizing the footprint of both developments; (2) restoring, preserving, and maintaining onsite beach mouse habitat at both projects; (3) incorporating requirements in the operation of both condominium facilities that provide for the conservation of the beach mouse; (4) monitoring the status of the beach mouse at both projects post-construction; (5) donating funds initially and on an annual basis to Perdido Key beach mouse conservation efforts; (6) including conservation measures to protect nesting sea turtles and non-breeding piping plover; and (7) funding the mitigation measures.

Several subspecies of beach mice have been listed as endangered species primarily because of the fragmentation, adverse alteration and loss of habitat due to coastal development. The threat of development related habitat loss continues to increase. Other contributing factors include low population numbers, habitat loss from a variety of reasons (including hurricanes), predation or competition by animals related to human development (cats and house mice), and the existing strength or lack of regulations regarding coastal development.

We will evaluate the HCP and comments submitted to determine whether the application meets the requirements of section 10(a) of the Act. If it is determined that those requirements are met, the ITP will be issued for the incidental take of the Perdido Key beach mouse. We will also evaluate whether issuance of the section 10(a)(1)(B) ITP complies with section 7 of the Endangered Species Act by conducting an intra-Service section 7 consultation. The results of this consultation, in combination with the above findings, will be used in the final analysis to determine whether or not to issue the ITPs.

Dated: April 6, 2006.
Bud Oliveira,
Acting Regional Director, Southeast Region.

[FR Doc. E6-6057 Filed 4-21-06; 8:45 am]

BILLING CODE 4310-55-P